DEPARTMENT OF DEFENSE

Department of the Army; Corps of Engineers

Draft Environmental Impact Statement—Supplement 1.0 for Lower Mud River at Milton, West Virginia, Milton Local Protection Project

AGENCY: Department of the Army, U.S. Army Corps of Engineers, DoD.

ACTION: Notice of availability.

SUMMARY: In accordance with the requirements of the National Environmental Policy Act (NEPA), the U.S. Army Corps of Engineers (USACE), Huntington District has prepared this Limited Reevaluation Report and Environmental Impact Statement—Supplement 1.0 (LRR/SEIS) in response to Section 580 of the Water Resources Development Act of 1996 (WRDA) which authorizes the USACE to “* * * conduct a limited reevaluation of the watershed plan and environmental impact statement prepared for the Lower Mud River, Milton, W.V., by the Natural Resources Conservation Service, pursuant to the Watershed Protection and Flood Prevention Act (16 U.S.C. 1001 et seq.) and may carry out the project,” and Section 340 of the WRDA of 2000, which reads: “Modifies Lower Mud River project at Milton authority (Section 580 of WRDA of 1996) to direct the COE to construct the project as selected in the COE reevaluation report.” This report focuses on providing flood protection for the City of Milton, Cabell County, WV against flooding such as occurred in December 1978, March 1997, and February 2003. In accordance with the requirements of NEPA, the potential impacts to the natural, physical, and human environment associated with proposed flood damage reduction measures for the City of Milton (Milton Local Protection Project) are evaluated.

The flood of record for the City of Milton occurred in March 1997. The flood had an estimated return frequency of 3.7% chance (27-year) flood event, causing over $23 million dollars in damage (1997 price level). The need for local flood protection at Milton is well documented as flooding has played a significant role in the town's history. Milton lies approximately 19 miles upstream from the confluence of the Mud River with the Guyandotte River. Within the town, approximately 736 structures (both residential and nonresidential) stand within the 100-year floodplain and potential annual damages for this reach of the Mud River are estimated to be $3.58 million (2003 dollars).

In addition to evaluating the flood damage reduction measures for Milton and the surrounding area, the natural resources that will be impacted by these measures have been examined. Potential significant impacts from the final levee alternatives include those to aesthetics, aquatic and terrestrial resources, and socioeconomic resources. Social impacts associated with construction of a project include principally traffic and noise impacts, economic gains and losses, impacts to community cohesion due to acquisition of residences and businesses to construct a project, and aesthetic impacts from the visual prominence of the levee in the community. The document includes a detailed description of the existing environment and describes impacts anticipated from the final flood damage reduction alternatives considered, including the no action alternative.

DATES: Comments should be submitted by September 30, 2003.

ADDRESSES: Submit comments by letter to: Mr. S. Michael Worley, Chief, Planning Branch, Planning Programs and Project Management Division, U.S. Army Corps of Engineers, Huntington District, 502 Eighth Street, Huntington, WV 25701-2070; FAX: 304-529-5136; or e-mail: Michaelw@Lrh.usace.army.mil.

FOR FURTHER INFORMATION CONTACT: For additional information about the proposed project, contact Mr. Louis Aspey, Project Manager, PM-P, U.S. Army Corps of Engineers, Huntington District, 502 Eighth Street, Huntington, WV, 25701-2070, telephone: 304-528-7446, or e-mail: Louisa@Lrh.usace.army.mil.

SUPPLEMENTARY INFORMATION:

1. Background

Under authority of the Watershed Protection and Flood Prevention Act (Pub. L. 83-566), the Natural Resources Conservation Service (NRCS), formerly Soil Conservation Service, began an investigation of land and water resource problems, including flooding, in the Lower Mud River watershed in 1972. This early investigation culminated with completion of the Lower Mud River Watershed Plan and Environmental Impact Statement in May 1993, in which a channel modification project of the Mud River in the vicinity of Milton was recommended. Section 580 of WRDA 1996 and Section 340 of WRDA 2000 provided the USACE authority to re-evaluate that study and construct a project.

A notice of intent to prepare a SEIS was published in the Federal Register on August 14, 2002 (67 FR 52959). The USACE invited full public participation to promote open communication and better decision-making. Persons and organizations interested in the Mud River flooding problems as they affect the community of Milton, WV and the affected environment were urged to participate in this public environmental analysis process. To keep the Milton community informed throughout the study process, a citizen's action group consisting of community members in the vicinity of Milton was formed and the first meeting held in November 2002, with the USACE as an invited guest. They have continued meeting on the fourth Thursday of each month at 9:30 a.m. in the Milton City Hall. Members include the City Council, West Virginia Conservation Agency, Cabell County Floodplain Coordinator, and concerned citizens. Meetings are informal and open to the public. Assistance will continue to be provided upon request to anyone having difficulty with learning how to participate.

As stated in the notice of intent, public comments are welcomed anytime throughout the NEPA process. Formal opportunities for public participation include: (1) Public meetings held near the community of Milton; (2) Anytime during the NEPA process via mail, telephone or e-mail; (3) During review and comment on the draft LRR/SEIS—approximately August 11 through September 30, 2003; and (4) Review of the final LRR/SEIS—winter 2003-2004. Schedules and locations for public meetings will be announced in local news media. Interested parties may also request to be included on the mailing list for public distribution of meeting announcements and documents.

To ensure that all issues related to the proposed project are addressed, the USACE has conducted an open process to define the scope of the LRR/SEIS. Recommendations from interested agencies, local and regional stakeholders and the general public were encouraged to provide input in identifying areas of concern, issues and impacts to be addressed in the LRR/SEIS, and the alternatives that would be analyzed.

2. Alternatives Considered

Detailed project studies have included consideration of a number of local flood damage reduction alternatives including tributary impoundments, floodwall/levee combinations, channel modification and various nonstructural measures. As part of the study, various alternatives considered were found effective for protecting Milton from flooding, including a floodwall, levees, floodproofing, and floodplain evacuation options. More detailed evaluations determined that none of the alternatives were economically feasible except a protective levee on the north bank of the Mud River (Plan B) and a protective levee with relocation of a segment of the Mud River channel (Plan D). These two alternatives along with the No Action alternative have been evaluated in detail and the results documented in the LRR/SEIS.

The primary planning objective was to develop the most economically feasible plan and the most environmentally acceptable plan to reduce flood damages at Milton. Plan B provides a high level of protection, but includes modification to the Mud River channel. Plan B has the greatest net benefits and is the National Economic Development (NED) plan. Plan D provides a lower level of protection, to approximately that of the 1997 flood; however, the project first cost is about 30 percent less than Plan B. Although Plan D affects several businesses and residences, the impacts on the natural environment are minor; therefore it is the environmentally preferred plan. Because Plan B provides the highest level of flood protection, has the greatest net benefits, and all significant environmental impacts can be mitigated by special project features, Plan B is the selected plan.

3. Availability of the Draft LRR/SEIS

USACE has distributed copies of the draft LRR/SEIS to appropriate Members of Congress, State and local government official in West Virginia, Federal agencies, and other interested parties. Copies of the document may be obtained by contacting USACE Huntington District Office of the Corps of Engineers at 304-529-5712. Comments pertaining to the documents should be sent to the address above. Copies of the draft LRR/SEIS are also available for inspection at the locations identified below:

(1) Cabell County Library, 455 Ninth Street Plaza, Huntington, WV 25701.

(2) Milton Public Library, 11401 Smith Street, Milton, WV 25541.

(3) Barboursville Public Library, 728 Main Street, Barboursville, WV 25504.

(4) http://www.lrh.usace.army.mil/.

After the public comment period ends (see DATES), USACE will consider all comments received, revise the draft SEIS as appropriate, and issue a final LRR/SEIS.

Luz D. Ortiz,
Army Federal Register Liaison Officer.

[FR Doc. 03-20912 Filed 8-14-03; 8:45 am]

BILLING CODE 3710-6M-M